DEPARTMENT OF TRANSPORTATION

Surface Transportation Board

[STB Finance Docket No. 34071]

Raritan Central Railway, L.L.C.—Lease and Operation Exemption—Federal Business Centers, Inc. and Summit Associates, Inc.

Raritan Central Railway, L.L.C. (Raritan), a noncarrier, newly created to become a Class III railroad, has filed a notice of exemption under 49 CFR 1150.31 to lease and operate, pursuant to an agreement entered into with Federal Business Centers, Inc., and Summit Associates, Inc., approximately 14 miles of rail line properties, easements and right-of-way, located within the Raritan Center Business Park, in the Townships of Edison and Woodbridge, in Middlesex County, NJ. Raritan certifies that its projected annual revenues will not exceed those that would qualify it as a Class III rail carrier and that its annual revenues are not projected to exceed $5 million.¹

¹ Raritan states that it will interchange traffic with the Conrail Shared Assets Operations. Raritan further states that it is a substitute operator for Durham Transport, Inc., the current operator of the rail line. See Durham Transport, Inc.—Acquisition and Operation Exemption—Center Realty, Federal Storage Warehouses, and Garden State Buildings, L.P., Finance Docket No. 31917 (ICC served Nov. 6, 1991).

The transaction is expected to be consummated on or shortly after August 15, 2001.

This transaction is related to STB Finance Docket No. 34070, Eyal Shapira—Continuance in Control Exemption—Raritan Central Railway, L.L.C., wherein Eyal Shapira has filed a notice of exemption to continue in control of Raritan upon its becoming a Class III rail carrier.

If the notice contains false or misleading information, the exemption is void ab initio. Petitions to revoke the exemption under 49 U.S.C. 10502(d) may be filed at any time. The filing of a petition to revoke will not automatically stay the transaction.

An original and 10 copies of all pleadings, referring to STB Finance Docket No. 34071, must be filed with the Surface Transportation Board, Office of the Secretary, Case Control Unit, 1925 K Street, NW., Washington, DC 20423-0001. In addition, one copy of each pleading must be served on John D. Heffner, REA, CROSS & AUCHINCLOSS, 1707 L Street, NW., Suite 570, Washington, DC 20036.

Board decisions and notices are available on our website at www.stb.dot.gov.

Decided: July 17, 2001.
By the Board, David M. Konschnik, Director, Office of Proceedings.
Vernon A. Williams,
Secretary.

[FR Doc. 01-18337 Filed 7-23-01; 8:45 am]

BILLING CODE 4915-00-P